Title 3—

The President

Presidential Determination No. 2002-12 of April 1, 2002

U.S. Contribution to the Korean Peninsula Energy Development Organization (KEDO): Determination Regarding Funds Under the Heading “Nonproliferation, Anti-terrorism, Demining and Related Programs” in Title II of the Foreign Operations, Export Financing, and Related Programs Appropriations Act, 2002 (Public Law 107-115)

Memorandum for the Secretary of State

Pursuant to the authority vested in me by section 565(c) of the Foreign Operations, Export Financing, and Related Programs Appropriations Act, 2002 (Public Law 107-115) (the “Act”), I hereby determine that it is vital to the national security interests of the United States to furnish up to $95 million in funds made available under the heading “Nonproliferation, Anti-terrorism, Demining and Related Programs” of that Act, for assistance to KEDO, and, therefore, I hereby waive the requirement in section 565(b) to certify that:

(1) The parties to the Agreed Framework have taken and continue to take demonstrable steps to implement the Joint Declaration on Denuclearization of the Korean Peninsula;

(2) North Korea is complying with all provisions of the Agreed Framework; and

(3) The United States is continuing to make significant progress on eliminating the North Korean ballistic missile threat, including further missile tests and its ballistic missile exports.

You are hereby authorized and directed to report this determination and the accompanying Memorandum of Justification to the Congress, and to arrange for publication of this determination in the Federal Register.

B

THE WHITE HOUSE,

Washington, April 1, 2002.

[FR Doc. 02-9355

Filed 04-15-02; 8:45 am]

Billing code 4710-10-P